DEPARTMENT OF DEFENSE

Department of the Air Force

Notice of Intent To Prepare an Environmental Impact Statement for Utah Test and Training Range Military Operations Area

AGENCY: Department of the Air Force, Air Combat Command, DOD.

ACTION: Notice of Intent.

SUMMARY: Pursuant to the National Environmental Policy Act (NEPA) of 1969, as amended (42 U.S.C. 4321, et seq.), the Council on Environmental Quality (CEQ) Regulations for Implementing the Procedural Provisions of NEPA (40 CFR Parts 1500-1508), and Air Force policy and procedures (32 CFR Part 989), the U.S. Air Force is issuing this notice to advise the public of its intent to prepare an Environmental Impact Statement (EIS) to assess the potential environmental impacts of creating a new military operations area (MOA) west of the Utah Test and Training Range (UTTR).

The Air Force proposal would expand the current UTTR airspace in Nevada in order to provide training opportunities not consistently available in existing UTTR airspace. This expansion is needed due to the scheduling limitations caused by other activities including large footprint weapons system tests. The MOA would underlay an established Air Traffic Control Assigned Airspace (ATCAA) unit and would not extend below 14,000 feet mean sea level. The Air Force proposal includes use of chaff and flares in the MOA and authorization of supersonic flight in the ATCAA.

Dates and Addresses: The Air Force will host a series of scoping meetings to receive public input on environmental concerns that should be addressed in the EIS. The schedule and location of the public scoping open house meetings are below. All meetings will last from 6 p.m. to 8 p.m.

Tuesday, 18 December 2007: Ely, Nevada, Bristlecone Pine Convention Center, 150 Sixth Street, Ely, NV 89301. Wednesday, 19 December 2007: Elko, Nevada, Elko Convention Center 700 Moren Way, Elko, NV 89801. Thursday, 20 December 2007: West Wendover, Nevada, West Wendover Branch Library, 590 Camper Dr., West Wendover, NV 89883.

Comments will be accepted at any time during the environmental impact analysis process. However, to ensure the Air Force has sufficient time to consider public input in the preparation of the Draft EIS, comments should be submitted to the address below by January 7, 2008.

FOR FURTHER INFORMATION CONTACT: Ms. Sheryl Parker, HQ ACC/A7PP, 129 Andrews St., Suite 102, Langley AFB, VA 23665-2769, telephone 757-764-9334.

Bao-Anh Trinh,
DAF, Air Force Federal Register Liaison Officer.

[FR Doc. E7-23137 Filed 11-27-07; 8:45 am]

BILLING CODE 5001-05-P